DEPARTMENT OF VETERANS AFFAIRS

[OMB Control No. 2900-0068]

Agency Information Collection (Application for Service-Disabled Veterans Insurance) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before March 7, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0068” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0068.”

SUPPLEMENTARY INFORMATION:

Title: Application for Service-Disabled Veterans Insurance, VA Forms 29-4364, 29-4364c and 29-0151.

OMB Control Number: 2900-0068.

Type of Review: Extension of a currently approved collection.

Abstract: Veterans complete VA Forms 29-4364 and 29-0151 to apply for service-disabled veterans insurance, designate a beneficiary and select an optional settlement. VA uses the data collected on VA Forms 29-4364 and 29-0151 to determine the claimant's eligibility for insurance.

VA Form 29-4364c is used by Veterans who were rated unemployable or with certain severely disabling conditions. Veterans completing VA Form 29-4364c do not need to provide medical information to qualify for this insurance.

An agency may not conduct or sponsor, and a person is not required to respond to a collection of information unless it displays a currently valid OMB control number. The Federal Register Notice with a 60-day comment period soliciting comments on this collection of information was published on November 20, 2013, at pages 69747-69748.

Affected Public: Individuals or households.

Estimated Annual Burden: 8,333 hours.

Estimated Average Burden per Respondent: 20 minutes.

Frequency of Response: On occasion.

Estimated Number of Respondents: 25,000.

Dated: January 30, 2014.
By direction of the Secretary.
Crystal Rennie,
Department Clearance Officer, Department of Veterans Affairs.

[FR Doc. 2014-02351 Filed 2-4-14; 8:45 am]

BILLING CODE 8320-01-P